ENVIRONMENTAL PROTECTION AGENCY

[FRL-7164-1]

Clean Air Act; Contractor Access to Confidential Business Information

AGENCY: Environmental Protection Agency (EPA).

ACTION: Notice.

SUMMARY: EPA has contracted with DynCorp I&ET, Incorporated, to provide assistance in the enforcement of regulatory requirements under the Clean Air Act, the Clean Water Act, the Resource Conservation and Recovery Act, and the Toxic Substances Control Act, until September 30, 2004. DynCorp has been authorized to have access to information submitted to EPA under these statutes that may be claimed and determined to be confidential business information.

DATES: This notice is effective March 27, 2002.

ADDRESSES: Address all comments concerning this notice to Sounjay Gairola, USEPA, Mail Code (2242A), 1200 Pennsylvania Avenue, NW., Washington, DC 20460. Telephone: (202) 564-4003. Fax: (202) 564-0053. Internet mail address: gairola.sounjay@epa.gov.

FOR FURTHER INFORMATION CONTACT: Sounjay Gairola, USEPA, Mail Code (2242A), 1200 Pennsylvania Avenue, NW, Washington, DC 20460. Telephone: (202) 564-4003. Fax: (202) 564-0053. Internet mail address: gairola.sounjay@epa.gov.

SUPPLEMENTARY INFORMATION: EPA has authorized DynCorp I&ET, Incorporated, (“DynCorp”), a contractor, to access information submitted to the EPA under the Clean Air Act, the Clean Water Act, the Resource Conservation and Recovery Act, and the Toxic Substances Control Act. Some of this information may be claimed and determined to be confidential business information (“CBI”). The EPA contract number is 68-W-99-072. The DynCorp corporate address is: DynCorp I&ET, Incorporated 6101 Stevenson Avenue, Alexandria, VA 22304.

Under the contract, DynCorp provides enforcement support to the Air Enforcement Division, Office of Regulatory Enforcement, Office of Enforcement and Compliance Assurance in a number of activities primarily related to the Clean Air Act. The contractor may also be called upon to provide support to other EPA offices under the other statutes. The activities in which DynCorp provides enforcement support include, but are not limited to: Analyzing evidence regarding changes or modifications made by utility power plants and the effect such changes may have on compliance with the Prevention of Significant Deterioration, New Source Review, New Source Performance Standards and other requirements of the Clean Air Act; and, Administrative support in managing documents concerning EPA investigations of utility power plants, such as photocopying and filing.

The type of information that may be disclosed includes, but is not limited to: Records related to the production of electricity, power plant construction records, Public Utility Commission records, Federal Energy Regulatory Commission records, and records of capital expenditures.

It is necessary for DynCorp to have access to these records in order to support EPA in determining whether regulated parties are in compliance with applicable regulatory requirements under the above listed statutes. DynCorp may be assisted in these activities by a subcontractor, Joyo Environmental Services of Alexandria, Virginia, working under DynCorp subcontract number K0-1-0074.

In accordance with 40 CFR 2.301(h)(2), EPA has determined that disclosure of confidential business information to DynCorp and its subcontractor is necessary for these entities to carry out the work required by this contract. EPA is issuing this notice to inform all submitters of information to the EPA under the Clean Air Act, the Clean Water Act, the Resource Conservation and Recovery Act, and the Toxic Substances Control Act, that EPA may allow access to CBI contained in such submittals to DynCorp and their subcontractor as necessary to carry out work under this contract. Disclosure of CBI under this contract may continue until September 30, 2004.

As required by 40 CFR 2.301(h)(2), the DynCorp contract includes provisions to assure the appropriate treatment of CBI disclosed to contractors and subcontractors. Similar requirements are contained under 40 CFR 2.302(h), 40 CFR 2.305(h), and 40 CFR 2.306(j), for the Clean Water Act, the Resource Conservation and Recovery Act, and the Toxic Substances Control Act, respectively. The notice is intended to meet the requirements of these regulations as well.

In accordance with 40 CFR 2.301(h)(2)(iii), EPA is affording individuals affected by this Notice an opportunity to comment on the disclosure of confidential business information to its contractor DynCorp. Comments should be addressed to the information contact given above.

Dated: March 14, 2002.
Bruce C. Buckheit,
Director, Air Enforcement Division.

[FR Doc. 02-7330 Filed 3-26-02; 8:45 am]

BILLING CODE 6560-50-P